CONSUMER PRODUCT SAFETY COMMISSION

[Docket No. CPSC 2011-0081]

Request for Information Regarding Third Party Testing for Lead Content, Phthalate Content, and the Solubility of the Eight Elements Listed in ASTM F963-11

Correction

In notice document 2013-8858 appearing on pages 22518-22520 in the issue of Tuesday, April 16, 2013, make the following correction:

On page 22518, in the second column, in the ADDRESSES section, in the second and third lines, “CPSC 2010-0037” should read “CPSC 2011-0081”.

[FR Doc. C1-2013-08858 Filed 4-22-13; 8:45 am]

BILLING CODE 1505-01-D